DEPARTMENT OF LABOR

Employment and Training Administration

[TA-W-41,390]

Sumitomo Mitsubishi Silicon Corporation, Also Known as SUMCO USA, Including Temporary Workers of Kelly Services, Salem, OR; Amended Certification Regarding Eligibility To Apply for Worker Adjustment Assistance

In accordance with section 223 of the Trade Act of 1974 (19 U.S.C. 2273) the Department of Labor issued a Certification of Eligibility to Apply for Worker Adjustment Assistance on August 16, 2002, applicable to workers of Sumitomo Mitsubishi Silicon Corporation, also known as SUMCO USA, Salem, Oregon. The notice was published in the Federal Register on September 10, 2002 (67 FR 57452).

At the request of the State agency, the Department reviewed the certification for workers of the subject firm. Information provided by the company shows that temporary workers of Kelly Services were employed at Sumitomo Mitsubishi Silicon Corporation, also known as SUMCO USA, to produce silicon wafers at the Salem, Oregon location of the subject firm.

Based on these findings, the Department is amending this certification to include temporary workers of Kelly Services, Salem, Oregon working at Sumitomo Mitsubishi Silicon Corporation, also known as SUMCO USA, Salem, Oregon.

The intent of the Department's certification is to include all workers of Sumitomo Mitsubishi Silicon Corporation, also known as SUMCO USA, who were adversely affected by increased imports.

The amended notice applicable to TA-W-41,390 is hereby issued as follows:

All workers of Sumitomo Mitsubishi Silicon Corporation, also known as SUMCO USA, Salem, Oregon, including temporary workers of Kelly Services, Salem, Oregon producing silicon wafers at Sumitomo Mitsubishi Silicon Corporation, also known as SUMCO USA, Salem, Oregon, who became totally or partially separated from employment on or after March 16, 2001, through August 16, 2004, are eligible to apply for adjustment assistance under Section 223 of the Trade Act of 1974.

Signed at Washington, DC, this 4th day of August, 2003.
Linda G. Poole,
Certifying Officer, Division of Trade Adjustment Assistance.

[FR Doc. 03-21283 Filed 8-20-03; 8:45 am]

BILLING CODE 4510-30-P